DEPARTMENT OF THE INTERIOR

U.S. Geological Survey

[GX14LQ00DXG0200]

Agency Information Collection Activities: Request for Comments

AGENCY: U.S. Geological Survey (USGS), Interior.

ACTION: Notice of a new information collection, Classification of biogeomorphic attributes and imagery of coastal habitats.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before November 12, 2014.

ADDRESSES: You may submit comments on this information collection to the Information Collection Clearance Officer, U.S. Geological Survey, 12201 Sunrise Valley Drive, MS 807, Reston, VA 20192 (mail); (703) 648-7197 (fax); or gs-info_collections@usgs.gov (email). Please reference `Information Collection 1028—NEW', “Classification of biogeomorphic attributes and imagery of coastal habitats” in all correspondence.

FOR FURTHER INFORMATION CONTACT: E. Robert Thieler, Research Geologist, at 508-457-2350 or rthieler@usgs.gov.

SUPPLEMENTARY INFORMATION:

I. Abstract

The information collection will be done by trained and vetted personnel to record information about habitats on coastal beaches and the environment surrounding them. It will collect geographic location information, date and time of observation, site identification information, photographic images, and includes a simple biogeomorphic landscape classification of geomorphologic and vegetation characteristics. Federal and non-federal partners are the targeted users. PII will not be collected.

The data collected will be used as input into research models of habitat utilization by beach-dependent species. Model outputs will be used to understand habitat availability and utilization in the future as the coast evolves in response to climate and sea-level change. This information can be used to inform land and species management decisions.

The USGS office leading the program is the Woods Hole Coastal and Marine Science Center, in collaboration with the USGS Center for Integrated Data Analytics, and the U.S. Fish and Wildlife Service.

II. Data

OMB Control Number: 1028—NEW.

Title: Classification of biogeomorphic attributes and imagery of coastal habitats.

Type of Request: New information collection.

Affected Public: Employees of the U.S. Geological Survey, National Park Service and U.S. Fish and Wildlife Service, non-governmental organizations, non-federal cooperators/collaborators (e.g., academic scientists, resource managers), other Federal, State, or local entities (state agencies, counties, towns).

Respondent's Obligation: None. Participation is voluntary.

Frequency of Collection: Data will be collected on an occasional basis, typically during the active growing and breeding season (May-September).

Estimated Annual Number of Respondents: 100.

Estimated Total Number of Annual Responses: 4000.

Estimated Time per Response: 20 minutes first time including training and setup, 5 minutes per response thereafter.

Estimated Annual Burden Hours: (4000 responses) * (5 minutes/response on average) = 334 hours/year estimate.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Dated: September 8, 2014.
Walter A. Barnhardt,
Director, Woods Hole Coastal Marine Science Center.

[FR Doc. 2014-21730 Filed 9-11-14; 8:45 am]

BILLING CODE 4311-AM-P